DEPARTMENT OF LABOR

Employment and Training Administration

[NAFTA-7641]

Nutramax Oral Care, Florence, MA; Notice of Revised Determination on Reconsideration

By application of February 7, 2003, a petitioner requested administrative reconsideration of the Department's denial regarding eligibility to apply for North American Free Trade Agreement-Transitional Adjustment Assistance (NAFTA-TAA), applicable to workers and former workers of the subject firm. The denial notice was issued on January 13, 2003 and published in the Federal Register on February 6, 2003 (67 FR 6212).

Workers were engaged in employment related to the production of dental floss and toothbrushes. The workers were denied NAFTA-TAA on the basis that there was no shift in production to Mexico or Canada, nor did imports from Canada or Mexico contribute importantly to workers' separations.

To support the request for reconsideration, the petitioners supplied additional information to supplement that which was gathered during the initial investigation. Upon further review and contact with the company, it was revealed that the company shifted a portion of production to Canada, contributing to layoffs at the subject firm.

Conclusion

After careful review of the facts obtained in the investigation, I conclude that there was a shift in production from the workers' firm to Canada of articles that are like or directly competitive with those produced by the subject firm:

All workers of Nutramax Oral Care, Florence, Massachusetts, who became totally or partially separated from employment on or after September 25, 2001, through two years from the date of certification, are eligible to apply for NAFTA-TAA under Section 250 of the Trade Act of 1974.

Signed at Washington, DC, this 18th day of March, 2003.
Edward A. Tomchick,
Director, Division of Trade Adjustment Assistance.

[FR Doc. 03-8908 Filed 4-10-03; 8:45 am]

BILLING CODE 4510-30-P